Proclamation 9943 of October 4, 2019

German-American Day, 2019

By the President of the United States of America

A Proclamation

On German-American Day, we proudly celebrate the contributions German Americans have made to our Nation through their dedication and hard work. The seeds of German-American heritage sown over three centuries ago, when the 13 German families landed in Philadelphia in 1683, continue to flourish and prosper in our country.

From our earliest days, German Americans have helped to secure the rights we hold dear and to sustain the American experience. General Friedrich von Steuben joined the noble American cause for independence, lending critical expertise in military drills, tactics, and discipline to train the soldiers of the Continental Army. As we expanded westward, the German-born businessman Levi Strauss and his iconic namesake clothing brand became emblematic of the resilient and pioneering American spirit. Charles M. Schwab, a descendant of German immigrants, strengthened America's steel industry, and his legacy as a business tycoon continues to be synonymous with innovation and success. Today, when we enjoy music played on a Steinway piano, read a Steinbeck novel, or admire the artwork collected by painter and philanthropist Hilla Rebay and displayed in New York's stunning Guggenheim Museum, we are reminded of the countless ways German Americans have influenced our society, commerce, and culture.

This year marks the 30th anniversary of the fall of the Berlin Wall, a triumph of freedom that embodies the dedication of the United States and Germany to the rule of law and human rights. The United States and our allies will continue to safeguard the torch of liberty and promote global stability by defending personal and economic freedom for generations to come.

This month, as we commemorate the contributions German Americans have made to our Nation, we also recognize the more than 43 million Americans who claim German heritage. Our shared values and historic and cultural ties strengthen the enduring bond between the United States and Germany. This partnership is the foundation of a bright and hopeful future for the world.

NOW, THEREFORE, I, DONALD J. TRUMP, President of the United States of America, by virtue of the authority vested in me by the Constitution and the laws of the United States, do hereby proclaim October 6, 2019, as German-American Day. I call upon all Americans to celebrate the achievements and contributions of German Americans to our Nation with appropriate ceremonies, activities, and programs.

IN WITNESS WHEREOF, I have hereunto set my hand this fourth day of October, in the year of our Lord two thousand nineteen, and of the Independence of the United States of America the two hundred and forty-fourth.

[FR Doc. 2019-22215

Filed 10-8-19; 8:45 am]

Billing code 3295-F0-P